DEPARTMENT OF THE TREASURY

Internal Revenue Service

Advisory Committee to the Internal Revenue Service; Meeting

AGENCY: Internal Revenue Service (IRS), Treasury.

ACTION: Notice of meeting.

SUMMARY: The Information Reporting Program Advisory Committee (IRPAC) will hold a public meeting on Wednesday, October 25, 2017.

FOR FURTHER INFORMATION CONTACT: Ms. Tonjua Menefee, National Public Liaison, CL:NPL: BSRM, Rm. 7559, 1111 Constitution Avenue NW., Washington, DC 20224.

Phone: 202-317-6851 (not a toll-free number). Email address: PublicLiaison@irs.gov.

SUPPLEMENTARY INFORMATION: Notice is hereby given pursuant to section 10(a)(2) of the Federal Advisory Committee Act, 5 U.S.C. App. (1988), that a public meeting of the IRPAC will be held on Wednesday, October 25, 2017 from 9:00 a.m. to 1:00 p.m. at the Melrose Georgetown Hotel, 2430 Pennsylvania Ave. NW., Washington, DC 20037. Report recommendations on issues that may be discussed include: Improve the Penalties, Abatement Request and Levies Process; Business Master File Entity Addresses; Form W-9 Enhancements; Reporting by Insurance Companies and Applicable Large Employers under IRC § 6055 and § 6056; Electronic submission and verification of specific forms; Online Tax Professional Account; Form 1042 and 1042-S Matching and Penalty Assessments; Validity period of documentary evidence and treaty statement under the Qualified Intermediary (QI) Agreement.; Foreign Taxpayer Identification Number (FTIN) requirements.

Last minute agenda changes may preclude notice. Due to limited seating and security requirements, please call or email Tonjua Menefee to confirm your attendance. Ms. Menefee can be reached at 202-317-6851 or PublicLiaison@irs.gov. Should you wish the IRPAC to consider a written statement, please call 202-317-6851, or write to: Internal Revenue Service, Office of National Public Liaison, CL:NPL:SRM, Room 7559, 1111 Constitution Avenue NW., Washington, DC 20224 or email: PublicLiaison@irs.gov.

Dated: October 6, 2017.
Darlene Frank,
Designated Federal Official, Branch Chief, National Public Liaison.

[FR Doc. 2017-22084 Filed 10-11-17; 8:45 am]

BILLING CODE 4830-01-P